NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: March 2, 2010.

Time: 8:30 a.m. to 5 p.m.

Room: 415.

Program: This meeting will review applications for Sustaining Cultural Heritage Collections I in Sustaining Cultural Heritage Collections, submitted to the Division of Preservation and Access at the December 8, 2009 deadline.

2. Date: March 4, 2010.

Time: 8:30 a.m. to 5 p.m.

Room: 415.

Program: This meeting will review applications for Sustaining Cultural Heritage Collections II in Sustaining Cultural Heritage Collections, submitted to the Division of Preservation and Access at the December 8, 2009 deadline.

3. Date: March 5, 2010.

Time: 8:30 a.m. to 5 p.m.

Room: 415.

Program: This meeting will review applications for Sustaining Cultural Heritage Collections III in Sustaining Heritage Collections, submitted to the Division of Preservation and Access at the December 8, 2009 deadline.

4. Date: March 9, 2010.

Time: 8:30 a.m. to 5 p.m.

Room: 415.

Program: This meeting will review applications for Sustaining Cultural Heritage Collections IV in Sustaining Cultural Heritage Collections, submitted to the Division of Preservation and Access at the December 8, 2009 deadline.

5. Date: March 10, 2010.

Time: 8:30 a.m. to 5 p.m.

Room: 415.

Program: This meeting will review applications for Sustaining Cultural Heritage Collections V in Sustaining Cultural Heritage Collections, submitted to the Division of Preservation and Access at the December 8, 2009 deadline.

6. Date: March 11, 2010.

Time: 8:30 a.m. to 5 p.m.

Room: 415.

Program: This meeting will review applications for Sustaining Cultural Heritage Collections VI in Sustaining Cultural Heritage Collections, submitted to the Division of Research Programs at the December 8, 2009 deadline.

7. Date: March 15-16, 2010.

Time: 9 a.m. to 5 p.m.

Place: Deutsche Forschungsgemeinschaft, Berlin Office, WissenschaftsForum (Gendarmenmarkt), Markgrafenstr. 37, D-10117 Berlin, Germany.

Program: This meeting will review applications for DFG/NEH Bilateral Digital Humanities Programs in DFG/NEH Bilateral Digital Humanities Programs: Bilateral Symposia & Workshops and Enriching Digital Collections, submitted to the Office of Digital Humanities at the October 8, 2009 and October 29, 2009 deadlines.

8. Date: March 18, 2010.

Time: 10:00 a.m. to 3 p.m.

Room: 415.

Program: This meeting will review applications for National Digital Newspaper Program in National Digital Newspaper Program, submitted to the Division of Preservation and Access at the November 3, 2009 deadline.

9. Date: March 22, 2010.

Time: 9:00 a.m. to 5 p.m.

Room: 421.

Program: This meeting will review applications for United States History in America's Historical and Cultural Organizations Grants Program, submitted to the Division of Public Programs at the January 13, 2010 deadline.

10. Date: March 23, 2010.

Time: 9 a.m. to 5 p.m.

Room: 421.

Program: This meeting will review applications for United States History in Interpreting America's Historic Places Grants Program, submitted to the Division of Public Programs at the January 13, 2010 deadline.

11. Date: March 25, 2010.

Time: 9:00 a.m. to 5 p.m.

Room: 421.

Program: This meeting will review applications for American Studies in America's Historical and Cultural Organizations Grants Program, submitted to the Division of Public Programs at the January 13, 2010 deadline.

12. Date: March 26, 2010.

Time: 9 a.m. to 5 p.m.

Room: 421.

Program: This meeting will review applications for United States History in America's Historical and Cultural Organizations Grants Program, submitted to the Division of Public Programs at the January 13, 2010 deadline.

Michael P. McDonald,
Advisory Committee Management Officer.

[FR Doc. 2010-2977 Filed 2-9-10; 8:45 am]

BILLING CODE 7536-01-P